DEPARTMENT OF HEALTH AND HUMAN SERVICES

Health Resources and Services Administration

Notice of Filing of Annual Report of Federal Advisory Committee

Notice is hereby given that pursuant to section 13 of the Federal Advisory Committee Act (Pub. L. 92-463), the Health Resources and Services Administration (HRSA) has filed with the Library of Congress a fiscal year 2004 annual report of the Maternal and Child Health Research Grants Review Committee.

Copies are available for public inspection and use at the Library of Congress, Newspaper and Current Periodical Reading Room in the James Madison Memorial Building, Room LM-133 (entrance on Independence Avenue, between First and Second Streets, SE., Washington, DC), telephone 202-707-5690.

Copies may be obtained from the Division of Research, Training and Education, Maternal and Child Health Bureau, HRSA, Parklawn Building, Room 18A-55, 5600 Fishers Lane, Rockville, Maryland 20857, Telephone 301-443-2340.

Dated: March 11, 2005.
Tina M. Cheatham,
Director, Division of Policy Review and Coordination.

[FR Doc. 05-5301 Filed 3-16-05; 8:45 am]

BILLING CODE 4165-15-P